DEPARTMENT OF AGRICULTURE

National Agricultural Statistics Service

Submission for OMB Review; Comment Request

February 19, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; (4) ways to minimize the burden of the collection of information on those who are to respond, including through the use of appropriate automated, electronic, mechanical or other technological collection techniques or other forms of information technology.

Comments regarding this information collection received by March 28, 2016 will be considered. Written comments should be addressed to: Desk Officer for Agriculture, Office of Information and Regulatory Affairs, Office of Management and Budget (OMB), New Executive Office Building, 725 17th Street NW., Washington, DC 20503. Commenters are encouraged to submit their comments to OMB via email to: OIRA_Submission@omb.eop.gov or fax (202) 395-5806 and to Departmental Clearance Office, USDA, OCIO, Mail Stop 7602, Washington, DC 20250-7602. Copies of the submission(s) may be obtained by calling (202) 720-8681. An agency may not conduct or sponsor a collection of information unless the collection of information displays a currently valid OMB control number and the agency informs potential persons who are to respond to the collection of information that such persons are not required to respond to the collection of information unless it displays a currently valid OMB control number.

National Agricultural Statistics Service

Title: Generic Clearance of Survey Improvement Projects

OMB Control Number: 0535-0248

Summary of Collection: The primary objectives of the National Agricultural Statistics Service (NASS) are to prepare and issue State and national estimates of crop and livestock production, economic and environmental statistics related to agriculture and to conduct the Census of Agriculture under the general authority of Title 7 U.S.C. Sec. 2204. The purpose of this generic clearance is to allow NASS to respond quickly to emerging issues and data collection needs. NASS will continue to develop, test, evaluate, adopt, and use state-of-the-art techniques to cover a broad range of topics designed to improve NASS' data collection on agriculture.

Need and Use of the Information: NASS will use a number of survey improvement techniques, as appropriate to the individual project under investigation. These include focus groups, cognitive and usability laboratory and field techniques, exploratory interviews, behavior coding, respondent debriefing, pilot surveys and split-panel tests. The information gathered will be used mainly for questionnaire development and other research and evaluation. Additionally, NASS anticipates the benefit of increased response rates through improved survey design, a goal tied directly to addressing OMB requirements for higher response rates and measurement of non-response bias.

Description of Respondents: Farms.

Number of Respondents: 25,000.

Frequency of Responses: Reporting: On occasion.

Total Burden Hours: 15,000.

Charlene Parker,
Departmental Information Collection Clearance Officer.

[FR Doc. 2016-03981 Filed 2-24-16; 8:45 am]

BILLING CODE 3410-20-P